Proclamation 9807 of October 12, 2018

Blind Americans Equality Day, 2018

By the President of the United States of America

A Proclamation

On Blind Americans Equality Day, we recognize the contributions that Americans who are blind and visually impaired make to our country, and the value of creating greater opportunities for all people to live full and independent lives. Despite facing challenges, Americans who are blind and visually impaired continue to achieve their dreams and strengthen our communities and our Nation. We remain committed to helping these individuals to be successful and achieve their goals in school, business, and civic life.

As a Nation, we want all our citizens to have the opportunity to achieve their goals. In keeping with this fundamental tenet of American society, I signed an Executive Order establishing the National Council for the American Worker, which will develop recommendations for a national strategy that empowers American workers to learn the skills needed to secure sustained employment. This national strategy will outline policies that provide all Americans, including those who are blind or visually impaired, with more opportunities to work, earn a living, and connect with others worldwide.

My Administration also supports Federal programs that help Americans who are blind and visually impaired obtain and maintain employment. The Randolph-Sheppard Vending Facilities Program, for example, has provided thousands of individuals who are blind with entrepreneurial opportunities to run their own businesses, generating millions of dollars in sales and substantial earnings. Under the Independent Living Services for Older Individuals Who Are Blind Program, the Department of Education has issued grants to States to support services for individuals 55 and older for whom independent living goals are feasible, but whose severe visual impairment makes competitive employment difficult to obtain. These grants fund independent living services for older individuals who are blind and visually impaired, activities that improve or expand services for these individuals, and raise public awareness of the challenges these individuals overcome.

By joint resolution approved on October 6, 1964 (Public Law 88-628), the Congress authorized the President to designate October 15 of each year as “White Cane Safety Day” to recognize the contributions of Americans who are blind or have impaired vision. As we celebrate the achievements of all those who are blind or visually impaired, I reaffirm my Administration's commitment to providing more opportunities for these Americans to enjoy freedom and independence. Today, we rededicate our efforts and continue working to ensure that all Americans, including those who are blind or visually impaired, have opportunities to achieve success.

NOW, THEREFORE, I, DONALD J. TRUMP, President of the United States of America, by virtue of the authority vested in me by the Constitution and the laws of the United States, do hereby proclaim October 15, 2018, as a day to celebrate and recognize the accomplishments and contributions of Americans who are blind and visually impaired. I call upon all Americans to observe this day with appropriate ceremonies and activities to reaffirm our commitment to achieving equality for all Americans.

IN WITNESS WHEREOF, I have hereunto set my hand this twelfth day of October, in the year of our Lord two thousand eighteen, and of the Independence of the United States of America the two hundred and forty-third.

[FR Doc. 2018-22938

Filed 10-17-18; 11:15 am]

Billing code 3295-F9-P